INTERNATIONAL TRADE COMMISSION

Privacy Act of 1974; Systems of Records

AGENCY: United States International Trade Commission.

ACTION: Rescindment of Systems of Records Notices.

SUMMARY: The system of records ITC-3 (Office of Inspector General Investigative Files (General)) contained records on individuals and contractors, who were the focus of an OIG investigation relating to the programs and operations of the Commission. The records were used to investigate and/or take other actions to address allegations of fraud, waste and abuse of a non-criminal nature by Commission employees or contractors.

The system of records ITC-4 (Office of Inspector General Investigative Files (Criminal)) contained records on individuals and contractors, who were the focus of an OIG criminal investigation relating to the programs and operations of the Commission. The records were used to investigate allegations of criminal violations by Commission employees or contractors.

DATES: Maintenance of these systems of records ended on or about March 1, 2007.

ADDRESSES: Written comments on the rescindment of these systems of records notices must be received by the Secretary to the Commission no later than October 27, 2017. The rescindment will become effective on that date unless otherwise published in the Federal Register.

You may submit comments, identified by docket number MISC-043, by any of the following methods:

Federal eRulemaking Portal: https://www.regulations.gov. Follow the instructions for submitting comments.

Agency Web site: https://edis.usitc.gov. Follow the instructions for submitting comments on the Web site.

Mail: For paper submission. U.S. International Trade Commission, 500 E Street SW., Room 112A, Washington, DC 20436.

Hand Delivery/Courier: U.S. International Trade Commission, 500 E Street SW., Room 112A, Washington, DC 20436. From the hours of 8:45 a.m. to 5:15 p.m.

Instructions: All submissions received must include the agency name and docket number (MISC-043), along with a cover letter. Persons filing comments must file the original document electronically on https://edis.usitc.gov. any personal information provided will be viewable by the public. For paper copies, a signed original and 8 copies of each set of comments should be submitted to Lisa R. Barton, Secretary, U.S. International Trade Commission, 500 E Street SW., Room 112A, Washington, DC 20436. For access to the docket to read background documents or comments received, go to https://edis.usitc.gov and/or the U.S. International Trade Commission, 500 E Street SW., Room 112A, Washington, DC 20436.

FOR FURTHER INFORMATION CONTACT: Clara Kuehn, Office of the General Counsel, U.S. International Trade Commission, 500 E Street SW., Washington, DC 20436, tel. 202-205-3012. Hearing-impaired persons can obtain information on this matter by contacting the Commission's TDD terminal on 202-205-1810. Persons with mobility impairments who will need special assistance in gaining access to the Commission should contact the Office of the Secretary at 202-205-2000.

SUPPLEMENTARY INFORMATION: The Commission's Inspector General proposes to rescind these two systems of records notices because these systems of records no longer exist. When maintenance of these systems of records ended (on or about March 1, 2007), no records existed in either of these systems.

SYSTEM NAMES AND NUMBERS:

ITC-3 (Office of Inspector General Investigative Files (General)) and ITC-4 (Office of Inspector General Investigative Files (Criminal)).

HISTORY:

The Commission previously published notice of these systems of records at 71 FR 35294 (June 19, 2006).

By order of the Commission.
Issued: September 21, 2017.
Lisa R. Barton,
Secretary to the Commission.

[FR Doc. 2017-20618 Filed 9-26-17; 8:45 am]

BILLING CODE 7020-02-P